Title 3—

The President

Proclamation 10866 of November 29, 2024

National Impaired Driving Prevention Month, 2024

By the President of the United States of America

A Proclamation

Too many families know the pain of losing a loved one to a drunk or drug-impaired driving accident. Each year, more than 10,000 Americans lose their lives in these preventable tragedies. During National Impaired Driving Prevention Month, we remind everyone that they can save lives by driving only when sober, calling for a ride, planning ahead, and making sure friends and loved ones do the same.

In 2022, over 13,000 people were killed in drunk-driving accidents. Still, millions of people drive under the influence each year, not only putting themselves in harm's way but also endangering passengers, pedestrians, and first responders. Even just one drink or one pill can ruin lives.

My Administration is committed to preventing accidents and impaired driving. The National Highway Traffic Safety Administration has raised awareness about its risks and consequences through media campaigns, including “If You Feel Different, You Drive Different”; “Drive Sober or Get Pulled Over”; and “Buzzed Driving is Drunk Driving.” Furthermore, since the beginning of my Administration, we have dedicated over $100 billion to disrupt the flow of illicit drugs and expand access to the prevention and treatment of substance use disorder.

Reducing fatalities and injuries in impaired driving accidents also means improving the safety of our Nation's vehicles. That is why my Bipartisan Infrastructure Law invests in technologies that can detect and prevent impaired driving and requiring new passenger cars to include collision warnings and automatic braking to prevent accidents. The Department of Transportation also released a National Roadway Safety Strategy to eliminate traffic deaths and make crashes less destructive.

This holiday season, let us recommit to doing right by our neighbors, friends, and families by driving sober. For those planning on drinking, arrange a sober ride home beforehand—ride-sharing apps are a convenient way to get home safely. If you have had alcohol or used substances, do not get behind the wheel—one accident can cost someone their life. If you are responsible for driving yourself or others, stay sober, buckle up, put the phone away, and drive the speed limit. And if you witness a friend, loved one, colleague, or anyone putting themselves or others in danger, lend a hand to keep them safe. You could save a life.

NOW, THEREFORE, I, JOSEPH R. BIDEN JR., President of the United States of America, by virtue of the authority vested in me by the Constitution and the laws of the United States, do hereby proclaim December 2024 as National Impaired Driving Prevention Month. I urge all Americans to make responsible decisions and take appropriate measures to prevent impaired driving.

IN WITNESS WHEREOF, I have hereunto set my hand this twenty-ninth day of November, in the year of our Lord two thousand twenty-four, and of the Independence of the United States of America the two hundred and forty-ninth.

[FR Doc. 2024-28713

Filed 12-4-24; 8:45 am]

Billing code 3395-F4-P